DEPARTMENT OF LABOR

Employment and Training Administration

[TA-W-37,697]

Scientific Research Company, Portland, Oregon; Notice of Termination of Investigation

Pursuant to section 221 of the Trade Act of 1974, an investigation was initiated on May 22, 2000, in response to a petition filed by a company official on behalf of workers at Scientific Research Company, Portland, Oregon.

The company official submitting the petition has requested that the petition be withdrawn. Consequently, further investigation in this case would serve no purpose, and the investigation has been terminated.

Signed in Washington, DC this 2nd day of June, 2000.
Grant D. Beale,
Program Manager, Division of Trade Adjustment Assistance.

[FR Doc. 00-16496 Filed 6-28-00; 8:45 am]

BILLING CODE 4510-30-M